DEPARTMENT OF COMMERCE

Census Bureau

Proposed Information Collection; Comment Request; 2014-2016 Company Organization Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before June 20, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Joy P. Pierson, Economic Planning and Coordination Division, U.S. Census Bureau, Room 8K319, Washington, DC 20233-6100 (or by email at Joy.P.Pierson@census.gov).

SUPPLEMENTARY INFORMATION:

I. Abstract

The Census Bureau conducts the annual Company Organization Survey (COS) to update and maintain a central, multipurpose Business Register (BR) database. In particular, the COS supplies critical information on the composition, organizational structure, and operating characteristics of multi-location companies.

The BR serves two fundamental purposes:

—First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industrial and geographic classifications, and name and address information.

—Second, it provides establishment data that serve as the basis for the annual County Business Patterns (CBP) statistical series. The CBP publications present data on a number of establishments, first quarter payroll, annual payroll, and mid-March employment summarized by industry and employment size class for the United States, the District of Columbia, island areas, counties, and country-equivalents. No other annual or more frequent series of industry statistics provides comparable detail, particularly for small geographic areas.

II. Method of Collection

The 2014-2016 COS collection strategy will focus on launching electronic reporting as the primary collection option. As the Census Bureau moves to increase electronic response and process less paper, we plan to replace some form mailings with letters encouraging electronic response. The 2014-2016 COS will request company-level information from a selection of multi-establishment enterprises, which comprise roughly 42,000 parent companies and more than 1.4 million establishments. Additionally, the panel will include approximately 5,000 large single-location companies that may have added locations during the year. Electronic reporting will be available to all 2014-2016 COS respondents. Companies will receive and return responses by secure Internet transmission. Companies that cannot use the Internet may request a CD-ROM containing their electronic data or may request a paper questionnaire. COS content is identical for all of the reporting modes.

The instrument will include inquiries on ownership or control by domestic or foreign parent, ownership of foreign affiliates, and leased employment. Further, the instrument will list an inventory of establishments belonging to the company and its subsidiaries, and request updates to these inventories, including additions, deletions, and changes to information on EIN, name and address, and industrial classification, end-of-year operating status, mid-March employment, first quarter payroll, and annual payroll.

Additionally, the Census Bureau will ask certain questions in the 2014-2016 COS in order to enhance content. We will include questions on ownership or control by domestic or foreign parents, ownership of foreign affiliates, research and development, leased employment, and manufacturing activities related to the Enterprise Statistics Program.

III. Data

OMB Control Number: 0607-0444.

Form Number(s): NC-99001 (for multi-establishment enterprises) and NC-99007 (for single-location companies).

Type of Review: Regular submission.

Affected Public: Businesses and not-for-profit institutions.

Estimated Number of Respondents: 47,000 enterprises.

Estimated Time per Response: 3.16 hours.

Estimated Total Annual Burden Hours: 148,567.

Estimated Total Annual Cost to Public: $4,648,661.

Respondent's Obligation: Mandatory.

Legal Authority: Title 13 U.S.C. 182, 195, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 16, 2014.
Gwellnar Banks,
Management Analyst, Office of the Chief Information Officer.

[FR Doc. 2014-09023 Filed 4-18-14; 8:45 am]

BILLING CODE 3510-07-P